ENVIRONMENTAL PROTECTION AGENCY

[EPA-HQ-OPPT-2025-3624; FRL-13130-01-OCSPP]

Science Advisory Committee on Chemicals (SACC); Request for Nominations

AGENCY: Environmental Protection Agency (EPA).

ACTION: Notice.

SUMMARY: The Environmental Protection Agency (EPA or the Agency) invites the public to nominate scientific experts that EPA can consider for appointment to the Science Advisory Committee on Chemicals (SACC), established pursuant to the Toxic Substances Control Act (TSCA). The SACC provides independent advice and recommendations to the EPA on the scientific aspects of risk evaluations, methodologies, and approaches for chemicals regulated under TSCA. EPA anticipates appointing new SACC members by mid-2026 due to expiring membership terms. The SACC provides expertise on scientific aspects of risk evaluations, methodologies, and approaches for chemicals regulated under TSCA. Any interested person or organization may nominate qualified individuals to be considered prospective candidates for the committee by following the instructions provided in this document. Individuals may also self-nominate.

DATES: Nominations of candidates to be considered for appointment to the SACC must be received on or before February 4, 2026.

ADDRESSES: Submit your nomination identified by the docket identification (ID) number EPA-HQ-OPPT-2025-3624, to the Designated Federal Officer (DFO) listed under FOR FURTHER INFORMATION CONTACT. Do not electronically submit any information you consider to be Confidential Business Information (CBI) or other information whose public disclosure is restricted by statute. If your nomination may contain any such information, please contact the DFO to obtain special instructions before submitting that information.

FOR FURTHER INFORMATION CONTACT: Tamue Gibson, DFO and Executive Secretary for the SACC, Regulatory & Information Services Division (7602M), Office of Mission Critical Operations, Office of Chemical Safety and Pollution Prevention, Environmental Protection Agency; telephone number: (202) 564-5336 or call the SACC main office at (202) 564-8450; email address:gibson.tamue@epa.gov.

SUPPLEMENTARY INFORMATION:

I. General Information

A. Does this action apply to me?

This action is directed to the general public. This action may also be of interest to those involved in the manufacture, processing, distribution, and disposal of chemical substances and mixtures, and/or those interested in the assessment of risks involving chemical substances and mixtures. Since other entities may also be interested, the Agency has not attempted to describe all the specific entities that may be affected by this action.

If you have any questions regarding the applicability of this action to a particular entity, consult the DFO listed under FOR FURTHER INFORMATION CONTACT.

B. What should I consider as I prepare my nominations for EPA?

1. Submitting CBI. Do not submit CBI or other sensitive information to EPA through email. If your nomination contains any information that you consider to be CBI or otherwise protected, please contact the DFO listed under FOR FURTHER INFORMATION CONTACT to obtain special instructions before submitting your nomination. Information properly marked as CBI will not be disclosed except in accordance with the procedures set forth in 40 CFR part 2.

2. Request for nominations. As part of a broader process for developing a pool of candidates for the SACC membership, the EPA Science Advisory Committee Branch (SACB) staff solicits the public stakeholder communities for nominations of prospective candidates. Sources such as list serv and website announcements in addition to this notice will be utilized to solicit nominations and identify candidates. Any interested person or organization may nominate qualified individuals to be considered as prospective candidates. Individuals also may self-nominate.

II. Background

The SACC is a federal advisory committee, established in December 2016 pursuant to TSCA section 2525(o), and chartered under the Federal Advisory Committee Act (FACA), 5 U.S.C. 1001-1014. EPA established the SACC to provide independent advice and recommendations to the EPA Administrator on the scientific aspects of risk evaluations, methodologies, and approaches for chemicals regulated under TSCA. The SACC members serve as Special Government Employees (SGEs) or Regular Government Employees (RGEs). The SACC expects to meet approximately 4 to 6 times per year, or as needed and approved by the DFO. Currently, there are 19 SACC members with ten membership terms that will expire over the next year.

III. Nominations

Nominations should include candidates who have demonstrated high levels of competence, knowledge, and expertise in scientific/technical fields relevant to chemical safety and risk assessment. In particular, nominees should include specific expertise and perspectives representing the sectors of science, government, labor, public health, public interest, animal protection, industry, and other groups, including representatives that have specific scientific expertise in the relationship of chemical exposures to women, children, and other potentially exposed or susceptible subpopulations. Nominees should demonstrate expertise from the following disciplines, including, but not limited to: human health and ecological risk assessment, biostatistics, epidemiology, pediatrics, physiologically-based pharmacokinetics (PBPK), toxicology and pathology (including neurotoxicology, developmental/reproductive toxicology, environmental toxicology, computational toxicology and carcinogenesis), cancer hazard and risk assessment, aggregate exposure, exposure assessment, bioinformatics/statics, inhalation exposure, inhalation toxicology, occupational exposure/industrial hygiene, and the relationship of chemical exposures to women, children, and other potentially exposed or susceptible subpopulations.

Each nomination should include the following information:

• Current contact information for the person making the nomination;

• Name, affiliation, and contact information for the nominee;

• The disciplinary and specific areas of expertise of the nominee; and

• Any additional information indicating current position; educational background; research activities; and recent service on other federal advisory committees and national or international professional organization.

Persons having questions about the nomination process should contact the DFO listed under FOR FURTHER INFORMATION CONTACT.

The DFO will acknowledge receipt of nominations. The names and biographical sketches of all nominees identified by respondents to this Federal Register notice, other sources for nominations, and any additional candidates identified by EPA Staff, will be posted in a List of Candidates in the docket at http://www.regulations.gov and will be available through the SACC website at http://www.epa.gov/tsca-peer-review. The availability of the list also will be announced through the Office of Chemical Safety and Pollution Prevention's listservs. You may subscribe to these listservs at the following website: https://public.govdelivery.com/accounts/USAEPAOPPT/subscriber/new?topic_id=USAEPAOPPT_101. Public comments on the List of Candidates will be requested to provide relevant information or other documentation on nominees that the EPA should consider in evaluating candidates. The final list of selected candidates to the SACC (names, professional affiliations) will be posted on the SACC website and announced through the OCSPP's listservs.

IV. Selection Criteria

In addition to scientific expertise, in selecting members, EPA will consider the breadth and balance of different perspectives and the collective experience needed to address EPA's prospective charges to the SACC, including the following:

• Background and experiences that would contribute to the diversity of scientific viewpoints on the committee, including professional experiences in government, labor, public health, public interest, animal protection, industry, and other groups, as the EPA Administrator determines to be advisable (e.g., geographical location, professional affiliations, etc.);

• Skills and experience working on committees and advisory panels including demonstrated ability to work constructively and effectively in a committee setting;

• Information on financial conflicts of interest or the appearance of a loss of impartiality. Prospective candidates will be asked to submit confidential financial information which shall fully disclose, among other financial interests, the candidate's employment, stocks, and bonds, and where applicable, sources of research support. EPA will evaluate the candidate's financial disclosure forms to assess the possibility of financial conflicts of interest, appearance of a loss of impartially, or any prior involvement with the development of documents likely to be under consideration by the SACC (including previous scientific peer reviews) before the candidate is considered further;

• Willingness to commit adequate time for the thorough review of materials provided to the committee; and

• Availability to participate in committee meetings.

(Authority: 15 U.S.C. 2625 et seq.; 5 U.S.C. 1001-1014.)

Dated: December 30, 2025.
Nancy B. Beck,
Principal Deputy Assistant Administrator, Office of Chemical Safety and Pollution Prevention.

[FR Doc. 2025-24256 Filed 1-2-26; 8:45 am]

BILLING CODE 6560-50-P